DEPARTMENT OF EDUCATION

Office of Postsecondary Education

Overview Information; Teacher Quality Enhancement Grants Program—Teacher Quality Enhancement (TQE) Grants for States; Notice Inviting Applications for New Awards for Fiscal Year (FY) 2005

Catalog of Federal Domestic Assistance (CFDA) Number: 84.336A.

Dates: Applications Available: October 25, 2004.

Deadline For Transmittal of Applications: December 17, 2004.

Deadline for Intergovernmental Review: February 15, 2005.

Eligible Applicants: Eligible States, as defined in sections 103(16) and 202(b) of the Higher Education Act of 1965, as amended (HEA). A State that received a previous grant under this program is not eligible for a FY 2005 grant. The following States are eligible: Alaska, Delaware, Hawaii, Iowa, Montana, New York, the Commonwealth of Northern Mariana Islands, Guam, and the United States Virgin Islands.

Estimated Available Funds: The Administration has requested $88,887,451 for this program for FY 2005. Of that amount, $39,999,353 would be allocated to TQE Grants for States under current law. Of this, approximately $30,624,151 would be available for new awards. The Department has requested appropriations language to override the statutory requirements that 45 percent of program funds be allocated for the State program and allow excess funds to be used where unmet demand for program funds exists. If this request is not approved, the Department will use funds allocated to Grants to States to provide additional years of funding for the awardees. The actual level of funding, if any, depends on final congressional action. However, we are inviting applications to allow enough time to complete the grant process if Congress appropriates funds for this program.

Estimated Range of Awards: $500,000—$5,000,000.

Estimated Average Size of Awards: $2,038,000 per year.

Estimated Number of Awards: 9.

Note: The Department is not bound by any estimates in this notice.

Project Period: Up to 36 months.

Full Text of Announcement

I. Funding Opportunity Description

Purpose of Program: The purpose of this program is to provide grants to promote improvements in the quality of new teachers, with the ultimate goal of increasing student achievement in the nation's K-12 classrooms. State grants are designed to improve the quality of a State's teaching force by supporting the implementation of comprehensive statewide reform activities in areas such as teacher licensing and certification, accountability for high-quality teacher preparation, and recruitment.

Priorities: In accordance with 34 CFR 75.105(b)(2)(ii), these priorities are taken from the regulations for this program (34 CFR 611.13).

Competitive Preference Priority: For FY 2005, these priorities are competitive preference priorities. Under 34 CFR 75.105(c)(2)(i), we award up to an additional 10 points to an application, depending on how well the application meets these priorities.

These priorities are:

The Secretary provides a competitive preference on the basis of how well the State's proposed activities in any one or more of the following statutory priorities are likely to yield successful and sustained results: (a) Initiatives to reform State teacher licensure and certification requirements so that current and future teachers possess strong teaching skills and academic content knowledge in the subject areas in which they will be certified or licensed to teach; (b) innovative reforms to hold higher education institutions with teacher preparation programs accountable for preparing teachers who are highly competent in the academic content areas and have strong teaching skills; or (c) innovative efforts to reduce the shortage (including the high turnover) of highly competent teachers in high-poverty urban and rural areas.

Program Authority: 20 U.S.C. 1021 et seq.

Applicable Regulations: (a) The Education Department General Administrative Regulations (EDGAR) in 34 CFR parts 75, 77, 79, 80, 81, 82, 84, 85, 97, 98 and 99. (b) The regulations for this program in 34 CFR part 611.

II. Award Information

Type of Award: Discretionary grants.

Estimated Available Funds: The Administration has requested $88,887,451 for this program for FY 2005. Of that amount, $39,999,353 would be allocated to TQE Grants for States under the current law. Of this, approximately $30,624,151 would be available for new awards. The Department has requested appropriations language to override the statutory requirements that 45 percent of program funds be allocated for the State program and allow excess funds to be used where unmet demand for program funds exists. If this request is not approved, the Department will use funds allocated to Grants to States to provide additional years of funding for the awardees. The actual level of funding, if any, depends on final congressional action. However, we are inviting applications to allow enough time to complete the grant process if Congress appropriates funds for this program.

Estimated Range of Awards: $500,000-$5,000,000.

Estimated Average Size of Awards: $2,038,000 per year.

Estimated Number of Awards: 9.

Note: The Department is not bound by any estimates in this notice.

Project Period: Up to 36 months.

III. Eligibility Information

1. Eligible Applicants: Eligible States, as defined in sections 103(16) and 202(b) of the Higher Education Act of 1965, as amended (HEA). A State that received a previous grant under this program is not eligible for a FY 2005 grant. The following States are eligible: Alaska, Delaware, Hawaii, Iowa, Montana, New York, the Commonwealth of Northern Mariana Islands, Guam, and the United States Virgin Islands.

2. Cost Sharing or Matching: See 34 CFR 611.62.

IV. Application and Submission Information

1. Address to Request Application Package: Luretha Kelley, U.S. Department of Education, 1990 K Street, NW., room 7096, Washington, DC 20006-8526. Telephone: (202) 502-7645 or by e-mail: luretha.kelley@ed.gov.

If you use a telecommunication device for the deaf (TDD), you may call the Federal Information Relay Service (FIRS) at 1-800-877-8339.

Individuals with disabilities may obtain a copy of the application package in an alternative format (e.g., Braille, large print, audiotape, or computer diskette) by contacting the program contact person listed in this section.

2. Content and Form of Application Submission: Requirements concerning the content of an application, together with the forms you must submit, are in the application package for this competition. Page Limit: The application narrative is where you, the applicant, address the selection criteria that reviewers use to evaluate your application.

You must limit the application narrative to the equivalent of no more than 50 pages. In addition, you must limit the: Accompanying abstract to the equivalent of no more than one page; work plan to the equivalent of no more than 10 pages; budget narrative to the equivalent of no more than 10 pages; and evaluation plan to the equivalent of no more than 5 pages.

• A “page” is 8.5″ x 11″, on one side only, with 1″ margins at the top, bottom, and both sides.

• Double space (no more than three lines per vertical inch) all text in the application narrative, work plan, budget narrative and evaluation plan, including titles, headings, footnotes, quotations, references, and captions, as well as all text in charts, tables, figures and graphs.

• Use a font that is either 12 point or larger or no smaller than 10 pitch (characters per inch).

The page limit does not apply to Part I, the cover sheet; Part II, the budget forms, the assurances and certifications; the resumes, the bibliography, or the letters of support.

We will reject your application if—

• You apply these standards and exceed the page limit; or

• You apply other standards and exceed the equivalent of the page limit.

3. Submission Dates and Times: Applications Available: October 24, 2004. Deadline for Transmittal of Applications: December 17, 2004.

We do not consider an application that does not comply with the deadline requirements.

We are requiring that applications for grants under this program be submitted electronically using the Electronic Grant Application system (e-Application) available through the Department's e-GRANTS system. For information (including dates and times) about how to submit your application electronically or to request a waiver of the electronic submission requirement, please refer to Section IV. 6. Other Submission Requirements in this notice.

Deadline for Intergovernmental Review: February 15, 2005.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this program must be submitted electronically, unless you request a waiver of this requirement in accordance with the instructions in this section.

a. Electronic Submission of Applications.

Applications for grants under the Teacher Quality Enhancement Grants Program for States—CFDA Number 84.336A must be submitted electronically using e-Application available through the Department's e-Grants system, accessible through the e-Grants portal page at: http://e-grants.ed.gov.

If you are unable to submit an application through the e-Grants system, you may submit a written request for a waiver of the electronic submission requirement. In your request, you should explain the reason or reasons that prevent you from using the Internet to submit your application. Address your request to: Luretha Kelley, U.S. Department of Education, 1990 K Street, NW., room 7096, Washington, DC 20006-8526. Please submit your request no later than two weeks before the application deadline date. Your paper application must be submitted in accordance with the mail or hand delivery instructions described in this notice.

If, within two weeks of the application deadline date, including on the application deadline date itself, you are unable to submit an application electronically, you must submit a paper application in accordance with the mail or hand delivery instructions described in this notice. The paper application must include a written request for a waiver documenting the reasons that prevented you from using the Internet to submit your application electronically.

While completing your electronic application, you will be entering data online that will be saved into a database. You may not e-mail an electronic copy of any part of a grant application to us.

Please note the following:

• You must complete the electronic submission of your grant application by 4:30 p.m., Washington, DC time, on the application deadline date. The e-Application system will not accept an application for this competition after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit the application in electronic format, nor will we penalize you if you request a waiver and submit the application in paper format because you were prevented from submitting the application electronically as required.

• You must submit all documents electronically, including the Application for Federal Education Assistance (ED 424) and all necessary assurances and certifications.

• Your electronic application must comply with any page limit requirements described in this notice.

• Prior to submitting your electronic application, you may wish to download it and print a copy of it for your records.

• After you electronically submit your application to the Department, you will receive an automatic acknowledgement that will include a PR/Award number (an identifying number unique to your application).

• Within three working days after submitting your electronic application, fax a signed copy of the ED 424 to the Application Control Center after following these steps:

1. Print ED 424 from e-Application.

2. The applicant's Authorizing Representative must sign this form.

3. Place the PR/Award number in the upper right hand corner of the hard copy signature page of the ED 424. Fax the signed ED 424 to the Application Control Center at (202) 245-6272.

• We may request that you provide us original signatures on other forms at a later date.

Application Deadline Date Extension in Case of System Unavailability: If you are prevented from electronically submitting your application on the application deadline date because the e-Application system is unavailable, we will grant you an extension of one business day in order to transmit your application electronically, by mail, or by hand delivery. We will grant this extension if—

1. You are a registered user of e-Application and have initiated an e-Application for this competition; and

2. (a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgement of any system unavailability, you may contact either (1) the person listed elsewhere in this notice under FOR FURTHER INFORMATION CONTACT (see VII. Agency Contact) or (2) the e-Grants help desk at 1-888-336-8930. If the system is down and therefore the application deadline is extended, a message will be posted on the e-Grants Web site (http://e-grants.ed.gov) and an e-mail is sent to all registered users who have initiated an application.

Extensions referred to in this section apply only to the unavailability of the Department's e-Application system. If the e-Application system is available, and, for any reason, you are unable to submit your application electronically or you do not receive an automatic acknowledgement of your submission, you may submit your application in paper format by mail or hand delivery in accordance with the instructions in this notice.

b. Submission of Paper Applications by Mail.

If you have requested a waiver of the electronic submission requirement, you may mail (through the U.S. Postal Service or a commercial carrier) your paper application to the Department. You must send the original and two copies of the application, before the application deadline date, to the following address: U.S. Department of Education, Application Control Center, Attention: (CFDA Number 84.336A), 400 Maryland Ave., SW., Washington, DC 20202.

You must show proof of mailing consisting of one of the following:

1. A legibly dated U.S. Postal Service Postmark;

2. A legible mail receipt with the date of mailing stamped by the U.S. Postal Service;

3. A dated shipping label, invoice, or receipt from a commercial carrier; or

4. Any other proof of mailing acceptable to the U.S. Secretary of Education.

If you mail the application through the U.S. Postal Service, please note that we do not accept either of the following as proof of mailing:

1. A private metered postmark, or

2. A mail receipt that is not dated by the U.S. Postal Service. If your application is postmarked after the application deadline date, we will not consider your application.

Note: Applicants should note that the U.S. Postal Service does not uniformly provide a dated postmark. Before relying on this method, applicants should check with their local post office.

c. Submission of Paper Applications by Hand Delivery.

If you have requested a waiver of the electronic submission requirement, you (or a courier service) may deliver the paper application to the Department by hand. You must deliver the original and two copies of your application by hand on or before the application deadline date, to the Department at the following address: U.S. Department of Education, Application Control Center, Attention: (CFDA Number 84.336A), 550 12th Street, SW., Room 7041, Potomac Center Plaza, Washington, DC 20202-4260.

The Application Control Center accepts deliveries daily between 8 a.m. and 4:30 p.m., Washington, DC time, except Saturdays, Sundays and Federal holidays. A person delivering an application must show photo identification to enter the building.

Note for Mail or Hand Delivery of Paper Applications: If you mail or hand deliver your application to the Department:

1. You must indicate on the envelope and—if not provided by the Department—in Item 4 of the ED 424, the CFDA number—and suffix letter, if any—of the competition under which you are submitting the application.

2. The Application Control Center will mail a Grant Application Receipt Acknowledgment to you. If you do not receive the notification of application receipt within 15 days from the mailing of your application, you should call the U.S. Department of Education Application Control Center at (202) 245-6288.

V. Application Review Information

Selection Criteria: The selection criteria for this competition are in 34 CFR 611.11 and 611.12.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), one measure has been developed for evaluating the overall effectiveness of the Teacher Quality Enhancement Grants Program for State Grants. The goal of this program is to improve the quality of teacher education and initial certification standards, and to improve the knowledge and skills of all teachers, particularly new teachers and teachers who work in high-need areas.

The indicator for this performance measure is: Pass rates will increase for pre-service teachers taking subject matter competency tests as a part of the State licensure requirements, in the States that receive funds from the Teacher Quality Enhancement Grants Program for States to prepare teachers that are highly competent in the academic content areas in which they plan to teach (HEA, Title II, Sec. 202 (d)(1)). All grantees will be expected to submit an annual performance report documenting their success in addressing this performance measure.

VII. Agency Contact

FOR FURTHER INFORMATION CONTACT: Luretha Kelley, U.S. Department of Education, 1990 K Street, NW., room 7096, Washington, DC 20006-8526. Telephone: (202) 502-7645 or by e-mail: Luretha.Kelley@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: October 20, 2004.
Sally L. Stroup,
Assistant Secretary, Office of Postsecondary Education.

[FR Doc. 04-23849 Filed 10-22-04; 8:45 am]

BILLING CODE 4000-01-P